DEPARTMENT OF HOMELAND SECURITY

Coast Guard

[Docket No. USCG-2010-0164]

National Boating Safety Advisory Committee; October 2024 Virtual Meeting

AGENCY: United States Coast Guard, Department of Homeland Security.

ACTION: Notice of open Federal advisory committee virtual meeting.

SUMMARY: The National Boating Safety Advisory Committee (Committee) will conduct a virtual open meeting to discuss matters relating to national boating safety. The virtual meeting will be open to the public.

DATES: Meeting: The Committee will meet virtually on Wednesday, October 16, 2024, from noon until 4 p.m. eastern daylight time (EDT). This virtual meeting may adjourn early if the Committee has completed its business.

Comments and supporting documentation: To ensure your comments are received by Committee members before the virtual meeting, submit your written comments no later than October 4, 2024.

ADDRESSES: To join the Committee virtual meeting or to request special accommodations, contact the individual listed in the FOR FURTHER INFORMATION CONTACT section no later than 1 p.m. EDT on October 4, 2024. The number of virtual lines is limited and will be available on a first-come, first-served basis.

Pre-registration information: Pre-registration is required for attending the virtual meeting. You must request attendance by contacting the individual listed in the FOR FURTHER INFORMATION CONTACT section of this notice. You will receive a response with attendance instructions.

The National Boating Safety Advisory Committee is committed to ensuring all participants have equal access regardless of disability status. If you require reasonable accommodation due to a disability to fully participate, please email Mr. Thomas Guess at NBSAC@uscg.mil or call (206) 815-0221 as soon as possible.

Instructions: You are free to submit comments at any time, including orally at the virtual meeting as time permits, but if you want Committee members to review your comments before the virtual meeting, please submit your comments no later than October 4, 2024. We are particularly interested in comments on the topics in the “Agenda” section below. We encourage you to submit comments through the Federal Decision-Making Portal at https://www.regulations.gov. To do so, go to https://www.regulations.gov, type USCG-2010-0164 in the search box and click “Search.” Next, look for this document in the Search Results column, and click on it. Then click on the Comment option. If your material cannot be submitted using https://www.regulations.gov, contact the individual in the FOR FURTHER INFORMATION CONTACT section of this document for alternate instructions. You must include the docket number USCG-2010-0164. Comments received will be posted without alteration at https://www.regulations.gov, including any personal information provided. You may wish to review the Privacy and Security Notice found via a link on the homepage of https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Thomas Guess, Alternate Designated Federal Officer of the National Boating Safety Advisory Committee, telephone (206) 815-0221 or via email at NBSAC@uscg.mil.

SUPPLEMENTARY INFORMATION: Notice of this virtual meeting is given pursuant the Federal Advisory Committee Act (Pub. L. 117-286, 5 U.S.C. ch. 10).

The Committee is authorized on December 4, 2018, by section 601 of the Frank LoBiondo Coast Guard Authorization Act of 2018, (Pub. L. 115-282, 132 Stat. 4192), and is codified in 46 U.S.C. 15105. The Committee operates under the provisions of the Federal Advisory Committee Act and 46 U.S.C. 15109. The Committee provides advice and recommendations to the Secretary of Homeland Security via the Commandant of the United States Coast Guard on matters relating to national boating safety. This notice is issued under the authority of 46 U.S.C. 15109(a).

Agenda

The agenda for the National Boating Safety Advisory Committee meeting is as follows:

1. Call to Order.

2. Roll call of Committee members and determination of quorum.

3. Opening Remarks.

4. Conflict of Interest Statement.

5. Acceptance of Committee 9 Minutes.

6. Remembrance of Mr. Ed Huntsman, former U.S. Coast Guard member and a boating advocate.

7. Receipt and discussion of the following reports from the U.S. Coast Guard Office of Auxiliary and Boating Safety:

a. Meeting Protocol

b. Review of Strategic Plan Dashboard (update on K-12 standard)

c. Review of Recommendations Dashboard (update on throwables, pending Regulations, California and flares)

d. Review of Task Statements Dashboard and any other Updates

e. Website Mock-Up Presentation

f. Update on Recreational Boating Safety Calendar

g. Getting Safety Message Out Via Manufacturers

h. Social Media Themes and Upcoming Calendar

i. Review of Data Analysis Dashboard

j. Grant Award and Summaries Update (John Snow, Inc. (JSI) and Electronic Cutoff Switch (ECOS), JSI and why less Personal Flotation Device (PFD) wear)

k. National Recreational Boating Safety Survey Update (access, vessel types, towed water sports, PFDs and capabilities, comms devices, National Marine Manufacturing Association (NMMA) involvement)

l. Marine Mobile Security Identity (MMSI) Presentation

m. Update on Regulations

n. ECOS Enforcement

o. Year-End Numbers from States

p. Update on Titling, Vessel ID System (VIS), and the Uniform Certificate of Title Act for Vessels (UCOTA-V)

8. Public Comment Period.

9. Next meeting planning.

a. January 22, 2025, virtual meeting and

b. April 22-24, 2025, at American Boat and Yacht Council (ABYC).

10. Meeting Adjournment.

A copy of all meeting documentation will be available at https://homeport.uscg.mil/missions/federal-advisory-committees/national-boating-safety-advisory-committee-(nbsac)/committee-meetings, no later than October 4, 2024. Alternatively, you may contact Mr. Thomas Guess as noted in the FOR FURTHER INFORMATION section above.

There will be a public comment period from approximately 3:00 p.m. until 3:15 p.m. (EDT). Speakers are requested to limit their comments to 3 minutes. Please note that the public comment period may end before the period allotted, following the last call for comments.

Please contact the individual listed in the FOR FURTHER INFORMATION CONTACT section above to register as a speaker.

Dated: September 4, 2024.
Amy M. Beach,
Captain, U.S. Coast Guard, Director of Inspections and Compliance.

[FR Doc. 2024-20284 Filed 9-9-24; 8:45 am]

BILLING CODE 9110-04-P